GENERAL SERVICES ADMINISTRATION

[Notice-MG-2014-03; Docket No. 2014-0002; Sequence 26]

Office of Federal High-Performance Green Buildings; Green Building Advisory Committee; Notification of Upcoming Public Advisory Committee Meeting and Conference Calls

AGENCY: Office of Government-Wide Policy, General Services Administration (GSA).

ACTION: Meeting Notice.

SUMMARY: This notice provides the schedule for conference calls of two task groups of GSA's Green Building Advisory Committee. Notice of these conference calls is being provided according to the requirements of the Federal Advisory Committee Act, 5 U.S.C. App. 10(a)(2). The calls are open for the public to listen in. Interested individuals must register to attend as directed below.

DATES: Task group conference call dates: The conference calls will be held according to the following schedule:

The Building Labels task group will hold conference calls on Monday, August 18, 2014 and Monday, August 25, 2014, from 11:00 a.m. to 12:00 p.m. eastern daylight time.

The Net Zero task group will hold conference calls on Tuesday, August 19, 2014 and Tuesday, August 26, 2014 from 2:00 p.m. to 3:00 p.m. eastern daylight time.

FOR FURTHER INFORMATION CONTACT: Ken Sandler, Designated Federal Officer, Office of Federal High-Performance Green Buildings, Office of Government-wide Policy, General Services Administration, 1800 F Street NW., Washington, DC 20405, telephone 202-219-1121 (Note: this is not a toll-free number). More information about the Committee and its task groups is available at http://www.gsa.gov/gbac.

SUPPLEMENTARY INFORMATION: Procedures for Attendance and Public Comment: Contact Ken Sandler at ken.sandler@gsa.gov to register to listen in to the conference calls. To register, submit your full name, organization, email address, and phone number. Requests must be received by 5:00 p.m. Eastern time, Friday, August 15, 2014. (GSA will be unable to provide technical assistance to any listener experiencing technical difficulties. Testing access to the Web meeting site in advance of calls is recommended.)

Background: The Administrator of GSA established the Committee on June 20, 2011 (Federal Register/Vol. 76, No. 118) pursuant to Section 494 of the Energy Independence and Security Act of 2007 (EISA, 42 U.S.C. 17123). Under this authority, the Committee advises GSA on the rapid transformation of the Federal building portfolio to sustainable technologies and practices.

This notice follows a June 4, 2014 notice (Federal Register/Vol. 79, No. 107) providing information on the Wednesday, September 10, 2014 meeting of the Advisory Committee and previous conference calls of the task groups.

The Net Zero task group is pursuing the motion of a committee member to “Strengthen net zero energy commitments for new and existing federal buildings and federal leased buildings.” The Building Labels task group is pursuing the motion of a committee member to “Require building performance labels [for federal buildings], including current energy and environmental performance.”

The conference calls will focus on how the task groups can best refine these motions into consensus proposals of each group to the full Committee, which will in turn decide whether to proceed with formal advice to GSA based upon these recommendations.

Dated: July 28, 2014.
Kevin Kampschroer,
Federal Director, Office of Federal High-Performance Green Buildings, General Services Administration.

[FR Doc. 2014-18280 Filed 7-31-14; 8:45 am]

BILLING CODE 6820-14-P